DEPARTMENT OF THE INTERIOR

National Park Service

[NPS-WASO-NRNHL-DTS#-31992; PPWOCRADI0, PCU00RP14.R50000]

National Register of Historic Places; Notification of Pending Nominations and Related Actions

AGENCY: National Park Service, Interior.

ACTION: Notice.

SUMMARY: The National Park Service is soliciting electronic comments on the significance of properties nominated before May 15, 2021, for listing or related actions in the National Register of Historic Places.

DATES: Comments should be submitted electronically by June 9, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 15, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Hale County

Magnolia Hall, 805 Otts St., Greensboro, SG100006665

GEORGIA

De Kalb County

East Atlanta Historic District, Roughly bounded by I20, Moreland Ave., Edgemore Dr., Elmhurst Cir., Wainwright Dr., and Fayetteville Rd., Atlanta, SG100006668

Habersham County

Clarkesville Downtown Square Historic District (Clarkesville MRA), Along Washington St. (US 441/23), roughly bounded by Jefferson, Morgan, Madison, Water, Monroe, and Grant Sts., Clarkesville, MP100006669

Upson County

McDaniel, John and Effie, House, 317 West Main St., Thomaston, SG100006662

KANSAS

Chase County

Cottonwood Falls Grade School (Public Schools of Kansas MPS), 401 Maple St., Cottonwood Falls, MP100006682

Douglas County

Kansas Homestead of Thomas McQuill(i)an (Agriculture-Related Resources of Kansas MPS), 1320 North 150 Rd., Baldwin City vicinity, MP100006683

KENTUCKY

Jefferson County

Conrad, Theophilus T., House-Rose Anna Hughes Presbyterian Widows Home, 1402 St. James Ct., Louisville, SG100006661

MAINE

Kennebec County

Brunswick Square, Bounded by School St., Brunswick, Dresden, and Lincoln Aves., Gardiner, SG100006675

Somerset County

Young Surgical Building-Central Maine Sanatorium, 50 Mountain Ave., Fairfield, SG100006674

MINNESOTA

Rice County

Northfield Commercial Historic District (Boundary Decrease), Roughly bounded by South Water, Division, Washington, East. 3rd, West 3rd, East 4th, and West 6th Sts., Dahomey Ave./TH 3, Northfield, BC100006666

NEW JERSEY

Essex County

Everett Court Apartments, The, 76-80 Court St., Newark, SG100006672

NEW YORK

Erie County

John Kam Company Malt House & Kiln House, 356 Hertel Ave., Buffalo, SG100006684

OREGON

Union County

Oregon Trail: La Grande to Hilgard Segment, (The Oregon Trail, Oregon, 1840 to 1880 MPS), Hilgard Quadrangle, T3S R37E Secs. 10, 11, 12; T3S R38E Sec. 7 (South of I84 between La Grande and Hilgard), La Grande, MP100006679

Additional documentation has been received for the following resources:

ALABAMA

Dallas County

Water Avenue Historic District (Additional Documentation), Water Ave., bounded by Lauderdale St., MLK Blvd., Beech Creek., Alabama R, Selma, AD05000650

ARKANSAS

Pulaski County

Central High School Neighborhood Historic District (Additional Documentation), Roughly bounded by MLK Dr., Thayer Ave., West 12th St., and Roosevelt Rd., Little Rock, AD96000892

KENTUCKY

Jefferson County

Highlands Historic District (Additional Documentation), Roughly bounded by Barrett Ave., Eastern Pkwy., Fernwood, Bardstown, Woodbourne, Ellerbee, and Sherwood Aves., Louisville, AD83002680

MICHIGAN

St. Joseph County

White Pigeon Prairie Land Office (Additional Documentation), 113 West. Chicago Rd., White Pigeon, AD88003234

MINNESOTA

Rice County

Northfield Commercial Historic District (Additional Documentation), Roughly bounded by South Water, Division, Washington, East 3rd, West 3rd, East 4th, and West 6th Sts., Dahomey Ave./TH 3, Northfield, AD79003125

Nominations submitted by Federal Preservation Officers:

The State Historic Preservation Officer reviewed the following nominations and responded to the Federal Preservation Officer within 45 days of receipt of the nominations and supports listing the properties in the National Register of Historic Places.

IDAHO

Custer County

Yankee Fork Gold Dredge, 300 Yankee Fork Rd. (Forest Service Rd. 013), Stanley vicinity, SG100006663

WYOMING

Sweetwater County

Lucerne Valley Archaeological District, Address Restricted, Washam vicinity, SG100006664

Authority: Section 60.13 of 36 CFR part 60.

Dated: May 18, 2021.
Sherry A. Frear,
Chief, National Register of Historic Places/National Historic Landmarks Program.

[FR Doc. 2021-10978 Filed 5-24-21; 8:45 am]

BILLING CODE 4312-52-P